DEPARTMENT OF HEALTH AND HUMAN SERVICES

Substance Abuse and Mental Health Services Administration

Center for Substance Abuse Prevention; Notice of Meeting

Pursuant to Public Law 92-463, notice is hereby given of a meeting of the SAMHSA Center for Substance Abuse Prevention (CSAP) National Advisory Council on July 25-26, 2006.

A portion of the meeting will be open and will include a roll call, general announcements, and a discussion of the Center's policy issues and current administrative, legislative and program developments. Attendance by the public to the open session will be limited to space available. Public comments are welcome. Please communicate with the individual listed as contact below to make arrangements to comment or to request special accommodations for persons with disabilities.

The meeting will also include the review, discussion, and evaluation of grant applications. Therefore, a portion of the meeting will be closed to the public as determined by the Administrator, SAMHSA, in accordance with Title 5 U.S.C. 552(c)(6) and 5 U.S.C. App.2, section 10(d).

Substantive program information, a summary of the open session of the meeting, and a roster of Council members may be obtained after the meeting by contacting Ms. Tia Haynes (see contact information below) or by accessing the SAMHSA Council Web site, http://www.samhsa.gov/council. The transcript for the open session will also be available on the SAMHSA Council Web site within three weeks after the meeting.

Committee Name: Substance Abuse and Mental Health Services Administration, Center for Substance Abuse Prevention National Advisory Council.

Date/Time: Tuesday, July 25, 2006, 9 a.m. to 4 p.m.; Wednesday, July 26, 2006, 9 a.m. to 3 p.m.

Place: 1 Choke Cherry Road, Sugarloaf Conference Room, Rockville, Maryland 20857.

Type: Open: July 25, 2006, 9 a.m.-12 p.m.; Closed: July 25, 2006, 1 p.m.-4 p.m. Open: July 26, 2006, 9 a.m.-3 p.m.

For Further Information Contact: Tia Haynes, Executive Secretary, CSAP National Advisory Council, 1 Choke Cherry Road, 4-1066, Rockville, Maryland 20857. Telephone: (240) 276-2436. Fax: (240) 276-2430. E-mail: tia.haynes@samhsa.hhs.gov.

This notice is being published less than 15 days prior to the meeting due to the urgent need to meet timing limitations imposed by the review and funding cycle.

Dated: July 13, 2006.
Toian Vaughn,
Committee Management Officer, Substance Abuse and Mental Health Services Administration.

[FR Doc. E6-11523 Filed 7-18-06; 8:45 am]

BILLING CODE 4162-20-P